DEPARTMENT OF DEFENSE

Department of the Air Force

Headquarters United States Air Force (HQ USAF) Scientific Advisory Board; Sunshine Act Meeting

AGENCY: Department of the Air Force (Air Force), DoD.

ACTION: Notice of Closed Meeting of the HQ USAF Scientific Advisory Board.

SUMMARY: Pursuant to Sunshine Act, Public Law 94-409, and in keeping with one or more of the exemptions as set forth in 5 U.S.C. 552b(c)(1), and (4); notice is hereby given of the forthcoming meeting of the Air Force Scientific Advisory Board. The purpose of the meeting is to present the findings/results of the Science and Technology Quality reviews accomplished in FY 2005 to the assembled SAB. Because contractor-proprietary information will be discussed, this meeting will be closed to the public.

DATES: Closed Meeting is scheduled for Tuesday, January 10, 2006.

FOR FURTHER INFORMATION CONTACT: Major Kyle Gresham, Air Force Scientific Advisory Board Secretariat, 1180 Air Force Pentagon, Room 5D982, Washington, DC 20330-1180, (703) 697-4811.

Lawrence Shade,
Acting, Air Force Federal Register Liaison Officer.

[FR Doc. 05-24600 Filed 12-23-05; 11:59 am]

BILLING CODE 5001-05-P